DEPARTMENT OF LABOR

Office of the Secretary

Combating Exploitive Child Labor Through Education in Bolivia, Cambodia, Colombia, the Democratic Republic of the Congo, the Dominican Republic, Indonesia, Morocco, the Philippines, Togo, and Uganda Amendment

July 24, 2007.

AGENCY: Bureau of International Labor Affairs, Department of Labor.

ACTION: Correction. Amendment to SGA 07-10.

SUMMARY: On June 14, 2007, the Department of Labor published a Notice of Availability of Funds and Solicitation for Cooperative Agreement Applications. That document, appearing in the Federal Register, Vol. 72, No. 114, on pages 32869 to 32914, is hereby amended.

Amendments

A. On page 32894, Section III. Eligibility Information, 1. Eligible Applicants, column 1, delete the sentence:

“However, the Grantee (or Lead Grantee, in the case of an Association) is not allowed to charge a fee (profit).”

Replace with the following sentence:

“However, the Grantee (or Lead or Non-Lead Grantees, in the case of an Association) is not allowed to charge a fee (profit).”

B. On page 32894, Section III. Eligibility Information, 2. Other Eligibility Requirements, column 3, delete the following sentence:

“If no DUNS number is provided in the application, and the Applicant does not provide evidence of an OMB exemption from the DUNS number requirement, then the application will be considered non-responsive.”

Replace with the following sentence:

“Unless the Applicant provides evidence of an OMB exception from the DUNS number requirement, it must provide either its DUNS number in the application or evidence of having submitted an application for a DUNS number prior to the deadline for this SGA, in order for the application to be considered responsive.

C. On page 32895, Section IV. Application and Submission Information, 2. Content and Form of Application Submission, column 2, following the sentence “The Technical Proposal must not exceed 45 single-sided (8½″ × 11″), double-spaced pages with 1-inch margins”, insert the language:

“The following information, however, does not count toward the 45 page limit:

• The two-page abstract summarizing the proposed project and Applicant profile information;

• Table of Contents;

• Section B. Sustainability Plan and Sustainability Matrix (however, the narrative for the Sustainability Plan should not exceed 5 double-spaced pages);

• For Key Personnel—letters of agreement and resumes (please note, applicants are no longer required to submit an SF 1420 for key personnel);

• Annex A. The Logical Framework Matrix;

• Annex B. Outputs-Based Budget;

• Project Work Plan;

• Audit attachments; and

• Supporting documentation demonstrating an applicants' country presence and/or outreach to host government ministries and nongovernmental organizations in the country.”

D. On page 32895, Section IV. Application and Submission Information, 2. Content and Form of Application Submission, column 2, delete the following sentence:

“A project design description as specified in the Application Evaluation Criteria found in section V.1.A. of this solicitation (maximum 45 pages) and a corresponding Logical Framework matrix as described in section V.1.A”

Replace with the following sentence, which drops the reference to the “maximum 45 pages”:

“A project design description as specified in the Application Evaluation Criteria found in section V.1.A. of this solicitation and a corresponding Logical Framework matrix as described in section V.1.A”

E. On Page 32897, Section J. Inherently Religious Activities, column 3, after the sentence, “Any inherently religious activities conducted by the Grantee must be clearly separated in time or physical space from activities funded by USDOL,” the following sentence is added:

“Grantees will be expected to segregate from federal and matching funds (neither of which may be used to fund inherently religious activities), and to account for separately, any non-federal and nonmatching funds (or allocable portion of those funds) used for such inherently religious activities.”

F. On page 32903, Section D. Key Personnel/Management Plan/Staffing, i. Key Personnel, column 1, delete the following paragraph regarding the SF 1420:

“Applicants must also include a completed salary history form SF 1420 for each key personnel candidate in their application. This form is available from the U.S. Agency for International Development's Web site at: http://www.usaid.gov/forms/AID1420-17.doc. A link to this form is also available on USDOL's Web site: http://www.dol.gov/ilab/grants/ilab/grants/.”

G. On page 32903, Section D. Key Personnel/Management Plan/Staffing, i. Key Personnel, column 2, delete the following sentence:

“The letters of agreement, resumes, and salary history forms (SF 1420) must be submitted as attachments to the application and will not count toward the page limit.”

Replace with the following sentence:

“The letters of agreement and resumes must be submitted as attachments to the application and will not count toward the page limit. Applicants must also submit information on salary history for key personnel covering their last 10 years of employment and for the various positions held during that period. This information may be included within resumes submitted as part of the application.”

Agency Contacts

All inquiries regarding SGA 07-10 or this Amendment to SGA 07-10 should be directed to: Ms. Lisa Harvey, U.S. Department of Labor, Procurement Services Center, 200 Constitution Avenue, NW., Room S-4307, Washington, DC 20210; telephone (202) 693-4570 (please note that this is not a toll-free-number) or e-mail: harvey.lisa@dol.gov.

For a list of frequently asked questions on USDOL's Solicitation for Cooperative Agreements, please visit http://www.dol.gov/ILAB/faqs.htm.

Signed at Washington, DC this 17th day of July, 2007.
Lisa Harvey,
Grant Officer.

[FR Doc. E7-14129 Filed 7-20-07; 8:45 am]

BILLING CODE 4510-28-P